DEPARTMENT OF HEALTH AND HUMAN SERVICES

Centers for Disease Control and Prevention

Board of Scientific Counselors (BSC), National Center for Injury Prevention and Control (NCIPC)

The meeting announced below concerns RFA CE10-004, the National Academic Centers of Excellence in Youth Violence Prevention (U01), secondary review.

In accordance with Section 10(a)(2) of the Federal Advisory Committee Act (Pub. L. 92-463), the Centers for Disease Control and Prevention (CDC) announces the aforementioned meeting:

Time and Date: 10 a.m.-12 p.m., June 14, 2011 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting involves the secondary review and discussion of proprietary information provided in competitive applications following the initial review of applications received in response to RFA CE10-004, The National Academic Centers of Excellence in Youth Violence Prevention (U01).

Contact Person for More Information: Gwendolyn Haile Cattledge, PhD, M.S.E.H., F.A.C.E., Deputy Associate Director for Science, CDC, 4770 Buford Highway, Atlanta, Georgia 30341, Telephone: (404) 488-1430.

The Director, Management Analysis and Services Office, has been delegated the authority to sign Federal Register notices pertaining to announcements of meetings and other committee management activities, for both the Centers for Disease Control and Prevention and the Agency for Toxic Substances and Disease Registry.

Dated: May 5, 2011.
Elaine L. Baker,
Director, Management Analysis and Services Office, Centers for Disease Control and Prevention.

[FR Doc. 2011-12076 Filed 5-16-11; 8:45 am]

BILLING CODE 4163-18-P